ENVIRONMENTAL PROTECTION AGENCY

[EPA-HQ-OAR-2007-0358; FRL-11709-01-OMS]

Agency Information Collection Activities; Submission to the Office of Management and Budget for Review and Approval; Comment Request; Responsible Appliance Disposal Program (Renewal)

AGENCY: Environmental Protection Agency (EPA).

ACTION: Notice.

SUMMARY: The Environmental Protection Agency (EPA) has submitted an information collection request (ICR), Responsible Appliance Disposal Program (EPA ICR Number 2254.04, OMB Control Number 2060-0703) to the Office of Management and Budget (OMB) for review and approval in accordance with the Paperwork Reduction Act. This is a proposed extension of the ICR, which is currently approved through January 31, 2024. Public comments were previously requested via the Federal Register on June 6, 2023, during a 60-day comment period. This notice allows for an additional 30 days for public comments.

DATES: Comments may be submitted on or before February 29, 2024.

ADDRESSES: Submit your comments to EPA, referencing Docket ID Number EPA-HQ-OAR-2007-0358, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Sally Hamlin, Stratospheric Protection Division, Office of Air and Radiation, 6205A, Environmental Protection Agency, 1200 Pennsylvania Ave. NW, Washington, DC 20460; telephone number: 202-343-9711; email address: Hamlin.sally@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Responsible Appliance Disposal program (RAD) is a voluntary partnership program sponsored by the Environmental Protection Agency (EPA) that encourages Partners to reduce emissions of ozone-depleting substances (ODS) and their alternatives (e.g., hydrofluorocarbons (HFCs)) that can be attributed to improper disposal of appliances. Appliances may contain ODS or HFC refrigerants and foams as well as universal wastes such as mercury, used oil, and polychlorinated biphenyls (PCBs). Federal law requires refrigerant recovery and proper management of universal waste but does not require the recovery of appliance foam. The RAD Program works with utilities, retailers, manufacturers, federal agencies/states/municipalities, waste removal service providers, affiliates, and others to dispose of appliances using best environmental practices.

To encourage reductions in emissions associated with appliance disposal in the United States, EPA launched the RAD Program. The RAD Program supports Section 608 of the Clean Air Act (CAA) and is an important component of EPA's mission to protect the ozone layer by reducing emissions of ODS. These efforts also support the American Innovation and Manufacturing (AIM) Act. RAD Program Partners reduce emissions of ODS and HFCs and realize other benefits through recovery and destruction/reclamation of refrigerants and foam blowing agents—the latter of which is not covered under existing Federal regulations—and by ensuring that all other hazardous and recyclable materials are handled using best environmental practices. Greenhouse gas (GHG) emissions are avoided through recovery of both ODS, HFCs, and other foam blowing agents. Additionally, through the RAD Program, EPA is partnering with utilities, retailers, manufacturers, federal agencies/state/municipalities, waste removal service providers, and others to promote the retirement of old appliances and permanently remove energy inefficient units from the electricity grid, providing energy savings to consumers.

Participation in the Program begins with completion of a mutually agreed upon Partnership Agreement that outlines mutual responsibilities for participation in the RAD Program. By voluntarily joining the Program, a Partner agrees to complete an annual reporting form identifying the number and types of appliances handled and the fates of their individual components. The electronic reporting form automatically generates feedback for the user on the results of their participation in terms of emissions avoided, quantity of used oil/PCBs/mercury destroyed or recycled, energy savings achieved, and consumer savings realized. An annual report provides Partners with information on their progress towards achieving emissions reductions and information about developments in the latest recycling technologies and practices. Through recognition of Partner efforts, and the Program's promotion of recycling best practices through webinars, web updates, fact sheets, and presentations, non-Partners become aware of recycling best practices and can evaluate what best practices could work for them. The RAD Program largely serves to disseminate information on recycling best practices and creates a platform for information sharing on recycling and waste management practices. The data collected are used as an indicator of whether industry is reducing emissions from end-of-life appliances.

Form Numbers: Partnership agreement forms, partnership reporting forms.

Respondents/affected entities: Utilities, manufacturers, retailers, Federal and State agencies, municipalities and waste removal companies.

Respondent's obligation to respond: Voluntary.

Estimated number of respondents: 52 (total over 3 years).

Frequency of response: Annual and when desired.

Total estimated burden: 292 hours (per year). Burden is defined at 5 CFR 1320.03(b).

Total estimated cost: $43,702 (per year), includes $00 annualized capital or operation & maintenance costs.

Changes in the Estimates: There is no change to the total estimated respondent burden compared with the 292 hours for the ICR currently approved by OMB. While the total number of respondents increased, the number of expected new Partners decreased. Therefore, the increase in burden associated with existing Partner activities is offset by the decrease in burden associated with new Partner activities.

Courtney Kerwin,
Director, Regulatory Support Division.

[FR Doc. 2024-01799 Filed 1-29-24; 8:45 am]

BILLING CODE 6560-50-P